DEPARTMENT OF TRANSPORTATION

Federal Aviation Administration

14 CFR Part 95

[Docket No. 30029; Amdt. No. 422]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, June 10, 2000.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace Navigation (air).

Issued in Washington, D.C. on May 3, 2000.
L. Nicholas Lacey,
Director, Flight Standards Service.

Adoption of the Amendment

Accordingly, pursuant to the authority delegated to me by the Administrator, part 95 of the Federal Aviation Regulations (14 CFR part 95) is amended as follows effective at 0901 UTC.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 422 Effective Date: June 15, 2000]
From | To | MEA
Color Routes
§ 95.10 Amber Federal Airway 7 Is Added To Read
Campbell Lake, AK NDB | Mineral Creek AK NDB | 12,100
Color Routes
§ 95.60 Blue Federal Airway 2 Is Added to Read
Point Lay, AK NDB | Cape Lisburne, AK NDB/DME | 4,000
Cape Lisbune, AK NDB/DME | Hotham, AK NDB | *8,000
*4,100-MOCA
Hotham, AK NDB | Tin City, AK NDB/DME | *5,000
*4,300-MOCA
Tin City, AK NDB/DME | Fort Davis, AK NDB | *7,000
*5,900-MOCA
Color Routes
§ 95.60 Blue Federal Airway 4 Is Added To Read
Bishop, AK NDB | Utopia Creek, AK NDB | *7,000
*5,900-MOCA
Utopia Creek, AK NDB | Evansville, AK NDB | *8,000
Evansville, AK NDB | Yukon River, AK NDB | *8,000
*6,600-MOCA
Color Routes
§ 95.60 Blue Federal Airway 5 Is Added To Read
Cape Lisburne, AK NDB/DME | Point Hope, AK NDB | 4,000
Color Routes
§ 95.60 Blue Federal Airway 8 Is Added To Read
Tin City, AK NDB/DME | Shishmaref, AK NDB | 4,000
Color Routes
§ 95.4 Green Federal Airway 1 Is Added To Read
Mount Moffett, AK NDB/DME | Horth, AK FIX | 8,000
*2,500-MOCA
Horth, AK FIX | Mordi, AK FIX | *8,000
Mordi, AK FIX | Elfee, AK NDB | *8,000
Color Routes
§ 95.4 Green Federal Airway 4 Is Added To Read
Borland, AK NDB/DME | Woody Island, AK NDB | *10,000
Color Routes
§ 95.4 Green Federal Airway 4 Is Added To Read
Wood River, AK NDB | Iliamna, AK NDB/DME | *4,500
*3,000-MOCA
Color Routes
§ 95.56 Green Federal Airway 16 Is Added To Read
Point Lay, AK NDB | Wainwright Village, AK NDB | *1,700
*1,200-MOCA
Wainwright Village, AK NDB | Browerville, AK NDB | *1,600
*1,100-MOCA
Browerville, AK NDB | Nuiqsut Village, AK NDB | 1,600
Nuiqsut Village, AK NDB | Put River, AK NDB | *1,700
*1,200-MOCA
Color Routes
§ 95.57 Green Federal Airway 17 Is Added To Read
Wainwright Village, AK NDB | Atqasuk, AK NDB | *1,600
*1,100-MOCA
Color Routes
§ 95.58 Green Federal Airway 18 Is Added To Read
Hotham, AK NDB | Point Lay, AK NDB | *10,000
*6,000-MOCA 0
Point Lay, AK NDB | Atqasuk, AK NDB | 2,300
Color Routes
§ 95.20 Red Federal Airway 1 Is Added To Read
St Paul Island, AK NDB/DME | Garrs, AK FIX | *4,600
*2,700-MOCA
Garrs, AK FIX | Saldo, AK NDB | 4,600
Color Routes
§ 95.20 Red Federal Airway 2 Is Added To Read
Elfee, AK NDB | Port Heiden, AK NDB/DME | 6,000
§ 95.6001 Victor Routes—U.S.
§ 95.6004 VOR Federal Airway 4 Is Amended To Read in Part
Saden, MO FIX | St Louis, MO VORTAC | *2,400
*1,700-MOCA
§ 95.6013 VOR Federal Airway 13 Is Amended To Read in Part
Farmington, MN VORTAC | *Wagnr, MN FIX | 5,500
*5,500-MRA
Wagner, MN FIX | Cinci, MN FIX | 5,500
§ 95.6077 VOR Federal Airway 77 Is Amended To Read in Part
Topeka, KS VORTAC | St Joseph, MO VORTAC | 3,000
§ 95.6159 VOR Federal Airway 159 Is Amended To Read in Part
Vero Beach, FL VORTAC | *Presk, FL FIX | 2,900
*2,500-MRA
Presk, FL FIX | Orlando, FL VORTAC | *2,100
*1,500-MOCA
§ 95.6189 VOR Federal Airway 189 Is Amended To Read in Part
Wright Brothers, NC VOR/DME | Darez, NC FIX | *6,000
*1,300-MOCA
Darez, NC FIX | Tar River, NC VORTAC | *4,000
*2,600-MOCA
§ 95.6222 VOR Federal Airway 222 Is Amended To Read in Part
Lake Charles, LA VORTAC | Maxon, LA FIX | *2,000
*1,500-MOCA
Maxon, LA FIX | *Wrack, LA FIX | **6,000
*3,000-MRA
**1,600-MOCA
Wrack, LA FIX | Mc Comb, MS VORTAC | *3,000
*2,000-MOCA
§ 95.6469 VOR Federal Airway 469 Is Amended To Read in Part
Relee, VA FIX | Exras, VA FIX | *8,000
*5,200-MOCA
Exras, VA FIX | Brucy, VA FIX | *10,000
*6,100-MOCA
§ 95.6552 VOR Federal Airway 552 Is Amended To Read in Part
Lake Charles, LA VORTAC | Hatha, LA FIX | *2,000
*1,500-MOCA
Hatha, LA FIX | Lafayette, LA VORTAC | 2,800
§ 95.6412 Hawaii VOR Federal Airway 12 Is Amended To Read in Part
Maggi, HI FIX | *Shark, HI FIX | NE BND
*16,000-MRA |
**1,200-,MOCA |

From | To | MEA | MAA
§ 95.7001 Jet Routes
§ 95.7056 Jet Route No. 56 Is Amended To Read in Part
Salt Lake City, UT VORTAC | HAYDEN, CO VOR/DME | 25000 | 45000
# MEA is established with a Gap in navigation signal coverage.
§ 95.7600 Jet Route No. 600 Is Added To Read
Mount Moffett, AK NDB/DME | EL/FEE, AK NDB | 18000 | 45000
§ 95.7601 Jet Route No. 601 Is Added To Read
Port Heiden, AK NDB/DME | Cold Bay, AK VORTAC | 18000 | 45000
Cold Bay, AK VORTAC | St Paul Island, AK NDB/DME | 18000 | 45000
§ 95.7603 Jet Route No. 603 Is Added To Read
Elfee, AK NDB | Dillingham, AK VOR/DME | 18000 | 45000
§ 95.7604 Jet Route No. 604 Is Added To Read
Borland, AK NDB/DME | Woody Island, AK NDB | 18000 | 45000
§ 95.7605 Jet Route No. 605 Is Added To Read
Biorka Island, AK VORTAC | Middleton Island, AK VOR/DME | 23000 | 45000
§ 95.7606 Jet Route No. 606 Is Added To Read
St Paul Island, AK NDB/DME | Saldo, AK NDB | 180000 | 45000
§ 95.7617 Jet Route No. 617 Is Added To Read
Homer, AK VORTAC | Johnstone Point, AK VORTAC | 18000 | 45000
§ 95.7619 Jet Route No. 619 Is Added To Read
Cape Newenham, AK NDB | St Paul Island, AK NDB/DME | 18000 | 45000
§ 95.7711 Jet Route No. 711 Is Added To Read
Sitka, AK NDB | Laire, AK FIX | 18000 | 45000
Laire, AK FIX | Hinchinbrook, AK NDB | 18000 | 45000

From | To | Changeover Points: Distance | Changeover Points: From
§ 95.8005 Jet Routes Changeover Points Airway Segment Is Added to Read
| J627
Homer, AK VORTAC | Johnstone Pointe AK VORTAC | 63 | Homer
95.1001 Direct Routes—U.S. Changover Points Color Routes Airway Segment is Added to Read
| A7
Campbell Lake, AK NDB | Mineral Creek, AK NDB | 69 | Campbell Lake
| B2
Cape Lisburne, AK NDB | Hotham, AK NDB | 57 | Cape Lisburne
| G16
Browerville, AK NDB | Nuiqsut, AK NDB | 82 | Browerville, AK NDB
| G18
Hotham, AK NDB | Point Lay, AK NDB | 96 | Hotham, AK, NDB
Point Lay, AK NDB | Atqasuk, AK NDB | 50 | Point Lay, AK NDB

[FR Doc. 00-11579 Filed 5-8-00; 8:45 am]

BILLING CODE 4910-13-M